DEPARTMENT OF COMMERCE

National Oceanic and Atmospheric Administration

RIN 0648-XA351

Endangered and Threatened Species; Take of Anadromous Fish

AGENCY: National Marine Fisheries Service (NMFS), National Oceanic and Atmospheric Administration (NOAA), Commerce.

ACTION: Application for a new scientific research permit.

SUMMARY: Notice is hereby given that NMFS has received a scientific research permit application request relating to salmonids listed under the Endangered Species Act (ESA). The proposed research is intended to increase knowledge of the species and to help guide management and conservation efforts. The application and related documents may be viewed online at: https://apps.nmfs.noaa.gov/preview/preview_open_for_comment.cfm. These documents are also available upon written request or by appointment by contacting NMFS by phone (707) 825-5185 or fax (707) 825-4840.

DATES: Written comments on the permit application must be received at the appropriate address or fax number (see ADDRESSES) no later than 5 p.m. Pacific standard time on May 16, 2011.

ADDRESSES: Written comments on this application should be submitted to the Protected Resources Division, NMFS, 1655 Heindon Road, CA 95521. Comments may also be submitted via fax to (707) 825-4840 or by e-mail to FRNpermits.ar@noaa.gov.

FOR FURTHER INFORMATION CONTACT: Diane Ashton, Arcata, CA (ph.: 707-825-5185, e-mail: diane.ashton@noaa.gov).

SUPPLEMENTARY INFORMATION:

Species Covered in This Notice

This notice is relevant to federally threatened California Southern Oregon/Northern California Coast (SONCC) coho salmon (Oncorhynchus kisutch).

Authority

Scientific research permits are issued in accordance with section 10(a)(1)(A) of the ESA of 1973 (16 U.S.C. 1531-1543) and regulations governing listed fish and wildlife permits (50 CFR Parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the application listed in this notice should set out the specific reasons why a hearing on that application would be appropriate (see ADDRESSES). Such hearings are held at the discretion of the Assistant Administrator for Fisheries, NMFS.

Application Received

Permit 16344

Dr. Jerri Bartholomew, Oregon State University at Corvalis, is requesting a 5-year permit to annually take 580 juvenile SONCC coho salmon of hatchery origin associated with two research projects to study the effects of the myxozoan parasite Ceratomyxa shasta on salmon and steelhead in the Klamath River in Northern California. In the two projects described below, Dr. Bartholomew and her co-investigators will utilize fish obtained from the Iron Gate Hatchery in California, transport fish to the John L. Fryer Disease Laboratory in Oregon, and will euthanize all individuals at the end of the experiments.

Project 1 is a study to determine the annual incidence of disease in May and June in the Klamath River (Humboldt County), California, following a 3-day exposure of individuals at the Beaver Creek and Seiad Valley sentinel sites. The study will compare trends in C. shasta infection prevalence, fish mortality, and time to death of juvenile fish of hatchery origin among years. Annually, Dr. Bartholomew proposes to collect, transport, and euthanize 220 juvenile SONCC coho salmon of hatchery origin for this project. Data from this study will provide information to estimate annual exposure of both wild and hatchery SONCC coho salmon to, and subsequent disease effects from, C. shasta among years; and to inform potential management actions to reduce infection rates.

Project 2 is a laboratory study to test whether sequential exposure of fish to a less virulent (IIR) strain of C. shasta, followed by exposure to a more virulent (IIC) strain, lessens disease effects (mortality, parasite production) within the juvenile SONCC coho salmon host. Annually, Dr. Bartholomew proposes to collect, transport, and euthanize 360 juvenile SONCC coho salmon of hatchery origin for this project. Data collected from these experiments will be used to inform potential disease management strategies for C. shasta in the Klamath River.

This notice is provided pursuant to section 10(c) of the ESA. NMFS will evaluate the application, associated documents, and comments submitted to determine whether the applications meet the requirements of section 10(a) of the ESA and Federal regulations.

The final permit decision will not be made until after the end of the 30-day comment period. NMFS will publish notice of its final action in the Federal Register.

Dated: April 7, 2011.
Angela Somma,
Chief, Endangered Species Division, Office of Protected Resources, National Marine Fisheries Service.

[FR Doc. 2011-9014 Filed 4-13-11; 8:45 am]

BILLING CODE 3510-22-P